DEPARTMENT OF VETERANS AFFAIRS

[OMB Control No. 2900-0793]

Agency Information Collection Activity Under OMB Review: (VA Health Professional Scholarship and Visual Impairment and Orientation and Mobility Professional Scholarship Programs)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before January 11, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0793” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0793.”

SUPPLEMENTARY INFORMATION:

Titles

1. Academic Verification, VA Form 10-0491.

2. Addendum to Application, VA Form 10-0491a.

3. Annual VA Employment Deferment Verification, VA Form 10-0491c.

4. Education Program Completion Notice Service Obligation Placement, VA Form 10-0491d.

5. Evaluation Recommendation Form, VA Form 10-0491e.

6. HPSP Agreement, VA Form 10-0491f.

7. HPSP/OMPSP Application, VA Form 10-0491g.

8. Notice of Approaching Graduation, VA Form 10-0491h.

9. Notice of Change and/or Annual Academic Status Report, VA Form 10-0491i.

10. Request for Deferment for Advanced Education, VA Form 10-0491j.

11. VA Scholarship Offer Response, VA Form 10-0491k.

12. VIOMPSP Agreement, VA Form 10-0491l.

OMB Control Number: 2900-0793.

Type of Review: Revision of a currently approved collection.

Abstract

The information required determines the eligibility or suitability of an applicant desiring to receive an award under the provisions of 38 U.S.C. 7601 through 7619, and 38 U.S.C. 7501 through 7505. The information is needed to apply for the VA Health Professional Scholarship Program or Visual Impairment and Orientation and Mobility Professional Scholarship Program. The VA Health Professional Scholarship Program awards scholarships to students receiving education or training in a direct or indirect healthcare services discipline to assist in providing an adequate supply of such personnel for VA and for the United States. The Visual Impairment and Orientation and Mobility Professional Scholarship Program awards scholarships to students pursuing a program of study leading to a degree in visual impairment or orientation and mobility in order to increase the supply of qualified blind rehabilitation specialists for VA and the Nation. The Federal Register Notice with a 60-day comment period soliciting comments on this collection of information was published at Vol. 81, No. 195, FR 69904 on Friday, October 7, 2016.

Affected Public: Individuals or households.

Estimate of the Hour Burden for the Collection of Information
Applicants
VA Forms | Number of respondents | × Number of responses | Equals | × Number of minutes | Equals (minutes) | ÷ by 60 = | Number of hours
10-0491g—Application | 1,500 | 1 | 1,500 | 60 | 90,000 |  | 1,500
10-0491—Academic Verification | 1,500 | 1 | 1,500 | 60 | 90,000 |  | 1,500
10-0491e—Evaluations & Recommendations (2) | 1,500 | 2 | 3,000 | 50 | 150,000 |  | 2,500
10-0491a—Addendum to Application | 450 (30%) | 1 | 450 | 10 | 4,500 |  | 75
Total |  |  |  |  |  |  | 5,575

Applicants Selected To Receive a Scholarship
VA Forms | Number of respondents | × Number of responses | Equals | × Number of minutes | Equals (minutes) | ÷ by 60 = | Number of hours
10-0491L—Agreement for the VIOMPSP | 30 | 1 | 30 | 15 | 450 |  | 8
10-0491k—VA Scholarship Offer Response | 30 | 1 | 30 | 10 | 300 |  | 5
10-0491i—Notice of Change and/or Annual Academic Status Report | 30 | 1 | 30 | 20 | 600 |  | 10
10-0491h—Notice of Approaching Graduation | 30 | 1 | 30 | 10 | 300 |  | 5
10-0491d—Education Program Completion Notice/Service Obligation Placement | 30 | 1 | 30 | 20 | 600 |  | 10
10-0491j—Request for Deferment for Advanced Education | 6 | 1 | 6 | 10 | 60 |  | 1
10-0491c—Annual VA Employment/Deferment Verification | 30 | 1 | 24 | 10 | 240 |  | 4
Total |  |  |  |  |  |  | 43
Grand Total for VIOMPSP |  |  |  |  |  |  | 5,618

Health Professional Scholarship Program (HPSP)
Applicants
VA Forms | Number of respondents | × Number of responses | Equals | × Number of minutes | Equals (minutes) | ÷ by 60 = | Number of hours
10-0491g—Application | 5,000 | 1 | 5,000 | 60 | 300,000 |  | 5,000
10-0491—Academic Verification | 5,000 | 1 | 5,000 | 60 | 300,000 |  | 5,000
10-0491e—Evaluations & Recommendations (2) | 5,000 | 2 | 10,000 | 50 | 500,000 |  | 8,333
10-0491a—Addendum to Application | 1500 (30%) | 1 | 1500 | 10 | 15,000 |  | 250
Total |  |  |  |  |  |  | 18,583

Applicants Selected To Receive a Scholarship
VA Forms | Numnrt of respondents | × Number of responses | Equals | × Number of minutes | Equals (minutes) | ÷ by 60 = | Number of hours
10-0491f—Agreement for the HPSP | 100 | 1 | 100 | 15 | 1,500 |  | 25
10-0491k—VA Scholarship Offer Response | 100 | 1 | 100 | 10 | 1,000 |  | 17
10-0491i—Notice of Change and/or Annual Academic Status Report | 100 | 1 | 100 | 20 | 2,000 |  | 33
10-0491h—Notice of Approaching Graduation | 100 | 1 | 100 | 10 | 1,000 |  | 17
10-0491d—Education Program Completion Notice/Service Obligation Placement | 100 | 1 | 100 | 20 | 2,000 |  | 33
10-0491j—Request for Deferment for Advanced Education | 20 | 1 | 20 | 10 | 200 |  | 3
10-0491c—Annual VA Employment/Deferment Verification | 80 | 1 | 80 | 10 | 800 |  | 13
Total |  |  |  |  |  |  | 141
Grand Total for HPSP |  |  |  |  |  |  | 18,724
Grand Total for Both VIOMPSP and HPSP |  |  |  |  |  |  | 24,342

Frequency of Response: Annually.

By direction of the Secretary.
Cynthia Harvey-Pryor,
Program Specialist, Office of Privacy and Records Management, Department of Veterans Affairs.

[FR Doc. 2016-29667 Filed 12-9-16; 8:45 am]

BILLING CODE 8320-01-P